DEPARTMENT OF THE INTERIOR

Fish and Wildlife Service

[FWS-R5-ES-2010-N148; 50120-1113-0000-D2]

Endangered and Threatened Wildlife and Plants; Initiation of 5-Year Reviews of Five Listed Species: Delmarva Peninsula Fox Squirrel, Northeastern Bulrush, Furbish Lousewort, Chittenango Ovate Amber Snail, and Virginia Round-Leaf Birch

AGENCY: Fish and Wildlife Service, Interior.

ACTION: Notice.

SUMMARY: Under the Endangered Species Act of 1973 (ESA), we, the U.S. Fish and Wildlife Service (Service), announce our initiation of 5-year reviews of five listed species: Delmarva Peninsula fox squirrel, northeastern bulrush, Furbish lousewort, Chittenango ovate amber snail, and Virginia round-leaf birch. A 5-year review is based on the best scientific and commercial data available at the time of the review; therefore, we are requesting submission of any such information that has become available since the original listing of each of these species. Based on the results of these 5-year reviews, we will make the requisite findings under the ESA.

DATES: To allow us adequate time to conduct these reviews, we must receive your information no later than October 4, 2010. However, we will continue to accept new information about any listed species at any time.

ADDRESSES: Submit information on individual species to the following U.S. Fish and Wildlife Service offices and individuals, as follows:

Delmarva Peninsula fox squirrel—By mail to Chesapeake Bay Field Office, U.S. Fish and Wildlife Service, 177 Admiral Cochrane Drive, Annapolis, MD 21401, to the attention of Cherry Keller, or by e-mail to cherry_keller@fws.gov. For more information call (410) 573-4532.

Northeastern bulrush—By mail to Pennsylvania Field Office, U.S. Fish and Wildlife Service, 315 South Allen Street, Suite 322, State College, PA 16801, to the attention of Carole Copeyon, or by e-mail to carole_copeyon@fws.gov. For more information call (814) 234-4090, extension 232.

Furbish lousewort—By mail to Maine Field Office, U.S. Fish and Wildlife Service, 17 Godfrey Drive, Suite 2, Orono, ME 04473, to the attention of Mark McCollough, or by e-mail to mark_mccollough@fws.gov. For more information call (207) 866-3344 extension 115.

Chittenango ovate amber snail—By mail to New York Field Office, U.S. Fish and Wildlife Service, 3817 Luker Road, Cortland, NY 13045, to the attention of Robyn Niver, or by e-mail to robyn_niver@fws.gov. For more information call (607) 753-9334.

Virginia round-leaf birch—By mail to Virginia Field Office, U.S. Fish and Wildlife Service, 6669 Short Lane, Gloucester, VA 23061, to the attention of Tylan Dean, or by e-mail to tylan_dean@fws.gov. For more information call (804) 693-6694, extension 104.

Information we receive in response to this notice and review will be available for public inspection, by appointment, during normal business hours, at the above addresses for the respective species.

FOR FURTHER INFORMATION CONTACT: Mary Parkin, U.S. Fish and Wildlife Service, Northeast Region, 300 Westgate Center Drive, Hadley, MA 01035; (617) 417-3331; mary_parkin@fws.gov.

SUPPLEMENTARY INFORMATION: Under the ESA (16 U.S.C. 1531 et seq.), the Service maintains a list of endangered and threatened wildlife and plant species at 50 CFR 17.11 (for animals) and 17.12 (for plants). Section 4(c)(2)(A) of the ESA requires that we conduct a review of listed species at least once every 5 years. Then, on the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review.

This notice announces our active review of the following species that are currently listed as endangered: Delmarva Peninsula fox squirrel, listed in 1967 (32 FR 4001); northeastern bulrush, 1991 (56 FR 21091-21096); and Furbish lousewort, 1978 (43 FR 17910-17916). In addition, we are requesting submission of any such information that has become available since the original listing of the following species as threatened: Chittenango ovate amber snail, 1978 (43 FR 28932-28935), and Virginia round-leaf birch, originally listed as endangered in 1978 (43 FR 17910-17916) and reclassified as threatened in 1994 (59 FR 59173-59177).

Public Solicitation of New Information

To ensure that our 5-year reviews are complete and based on the best available scientific and commercial information, we are soliciting new information from the public, concerned governmental agencies, Tribes, the scientific community, industry, environmental entities, and any other interested parties concerning the status of the Delmarva Peninsula fox squirrel, northeastern bulrush, Furbish lousewort, Chittenango ovate amber snail, and Virginia round-leaf birch.

A 5-year review considers the best scientific and commercial data and all new information that has become available since the listing determination or most recent status review. Categories of requested information include (A) Species biology, including but not limited to, population trends, distribution, abundance, demographics, and genetics; (B) habitat conditions, including but not limited to, amount, distribution, and suitability; (C) conservation measures that have been implemented that benefit the species; (D) threat status and trends; and (E) other new information, data, or corrections, including but not limited to, taxonomic or nomenclatural changes, identification of erroneous information contained in the list, and improved analytical methods.

If you wish to provide information for these 5-year reviews, you may submit your comments and materials to the respective lead offices and biologists (see ADDRESSES section). To the extent consistent with applicable law, we will make all submissions from organizations or businesses, and from individuals identifying themselves as representatives or officials of organizations or businesses, available for public inspection in their entirety. Materials received will be available for public inspection, by appointment, during normal business hours (see ADDRESSES section).

Before including your address, phone number, e-mail address, or other personal identifying information in your comment, you should be aware that your entire comment—including personal identifying information—may be made publicly available at any time. While you may ask us in your comment to withhold personally identifying information from public review, we cannot guarantee that we will be able to do so.

Authority: This document is published under the authority of the Endangered Species Act of 1973, as amended (16 U.S.C. 1531 et seq.).

Dated: July 12, 2010.
Anthony D. Léger,
Acting Regional Director, Northeast Region, U.S. Fish and Wildlife Service.

[FR Doc. 2010-19109 Filed 8-3-10; 8:45 am]

BILLING CODE 4310-55-P